GENERAL SERVICES ADMINISTRATION

[Docket 2012-0001; Sequence 12: OMB Control No. 3090-0228]

Information Collection; Nondiscrimination in Federal Financial Assistance Programs

AGENCY: Office of Civil Rights, GSA.

ACTION: Notice of request for comments regarding a renewal to an existing OMB clearance.

SUMMARY: Under the provisions of the Paperwork Reduction Act, the General Services Administration will be submitting to the Office of Management and Budget (OMB) a request to review and approve a previously approved information collection requirement regarding nondiscrimination in Federal financial assistance programs. This information is needed to facilitate nondiscrimination in GSA's Federal Financial Assistance Programs, consistent with Federal civil rights laws and regulations that apply to recipients of Federal financial assistance.

Public comments are particularly invited on: Whether this collection of information is necessary and whether it will have practical utility; whether our estimate of the public burden of this collection of information is accurate and based on valid assumptions and methodology; and ways to enhance the quality, utility, and clarity of the information to be collected.

DATES: Submit comments on or before: September 21, 2012.

FOR FURTHER INFORMATION CONTACT: Evelyn Britton, Director, External Programs Division, Office of Civil Rights, at telephone (202) 603-1645 or via email to evelyn.britton@gsa.gov.

ADDRESSES: Submit comments identified by Information Collection 3090-0228, Nondiscrimination in Federal Financial Assistance Programs, by any of the following methods:

• Regulations.gov: http://www.regulations.gov. Submit comments via the Federal eRulemaking portal by searching the OMB control number. Select the link “Submit a Comment” that corresponds with “Information Collection 3090-0228, Nondiscrimination in Federal Financial Assistance Programs”. Follow the instructions provided at the “Submit a Comment” screen. Please include your name, company name (if any), and “Information Collection 3090-0228, Nondiscrimination in Federal Financial Assistance Programs” on your attached document.

• Fax: 202-501-4067.

• Mail: General Services Administration, Regulatory Secretariat (MVCB), 1275 First Street NE., Washington, DC 20417. Attn: Hada Flowers/IC 3090-0228, Nondiscrimination in Federal Financial Assistance Programs.

Instructions: Please submit comments only and cite Information Collection 3090-0228, Nondiscrimination in Federal Financial Assistance Programs, in all correspondence related to this collection. All comments received will be posted without change to http://www.regulations.gov, including any personal and/or business confidential information provided.

SUPPLEMENTARY INFORMATION:

A. Purpose

The General Services Administration (GSA) has mission responsibilities related to monitoring and enforcing compliance with Federal civil rights laws and regulations that apply to Federal Financial Assistance programs administered by GSA. Specifically, those laws provide that no person on the ground of race, color, national origin, disability, sex or age shall be excluded from participation in, be denied the benefits of, or be otherwise subjected to discrimination under any program in connection with which Federal financial assistance is extended under laws administered in whole or in part by GSA. These mission responsibilities generate the requirement to request and obtain certain data from recipients of Federal surplus property for the purpose of determining compliance, such as the number of individuals, based on race and ethnic origin, of the recipient's eligible and actual serviced population; race and national origin of those denied participation in the recipient's program(s); non-English languages encountered by the recipient's program(s) and how the recipient is addressing meaningful access for individuals that are Limited English Proficient; whether there has been complaints or lawsuits filed against the recipient based on prohibited discrimination and whether there has been any findings; and whether the recipient's facilities are accessible to qualified individuals with disabilities.

B. Annual Reporting Burden

Respondents: 1,200.

Responses per Respondent: 1.

Total Responses: 1200.

Hours per Response: 2.

Total Burden Hours: 2,400.

Obtaining Copies of Proposals: Requesters may obtain a copy of the information collection documents from the General Services Administration, Regulatory Secretariat (MVPR), 1275 First Street NE., Washington, DC 20417, telephone (202) 501-4755. Please cite OMB Control No. 3090-0228, Nondiscrimination in Federal Financial Assistance Programs, in all correspondence.

Dated: July 9, 2012.
Casey Coleman,
Chief Information Officer.

[FR Doc. 2012-17833 Filed 7-20-12; 8:45 am]

BILLING CODE 6820-34-P